DEPARTMENT OF TRANSPORTATION

Federal Highway Administration

Buy America Waiver Notification

AGENCY: Federal Highway Administration (FHWA), DOT.

ACTION: Notice.

SUMMARY: This notice provides information regarding the FHWA's finding that a Buy America waiver is appropriate for the purchase of foreign butterfly valves for a Federal-aid/American Recovery and Reinvestment Act (ARRA) project for the City of Colorado Springs, Colorado.

DATES: The effective date of the waiver is October 16, 2009.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application of such requirements would be inconsistent with the public interest or when satisfactory quality domestic steel and iron products are not sufficiently available. This notice provides information regarding the FHWA's finding that a Buy America waiver is appropriate for the acquisition of butterfly valves for the Woodmen Road Corridor Improvement Project in the City of Colorado Springs, Colorado. Specifically, the City of Colorado Springs was not able to find a domestic supplier for a 42 inch Vanessa Zero Leakage 30,000 Series Butterfly Valve. This project is funded under the American Recovery and Reinvestment Act of 2009.

In accordance with the Division I, section 126 of the “Omnibus Appropriations Act, 2009” (Pub. L. 111-8), the FHWA published a notice of intent to issue a waiver for the butterfly valves (http://www.fhwa.dot.gov/construction/contracts/waivers.cfm?id=37) on August 24, 2009. The FHWA received one comment in response to this notice which suggested that the butterfly valves may be available domestically. This comment was provided by Mr. Edward J. Schutz, Director of Sales with the Henry Pratt Company.

Mr. Adam Baker with the City of Colorado Springs contacted Mr. Shutz with the Henry Pratt Company regarding the company's products and conformance with the City of Colorado Spring's design criteria. Both parties agreed that the company's products would not meet the project specifications. A copy of the City's September 16, 2009, letter to Mr. Schutz documenting this conversation and Mr. Schutz's confirmation is available upon request.

During the 15-day comment period, the FHWA conducted an additional review to locate potential domestic manufacturers for the butterfly valves. Based on all the information available to the agency, the FHWA concludes that there are no domestic manufacturers for the specified butterfly valves. Thus, the FHWA concludes that a Buy America waiver is appropriate as provided by 23 CFR 635.410(c)(1).

In accordance with the provisions of section 117 of the SAFETEA-LU Technical Corrections Act of 2008 (Pub. L. 110-244, 122 Stat.1572), the FHWA is providing this notice as its finding that a waiver of Buy America requirements is appropriate. The FHWA invites public comment on this finding for an additional 15 days following the effective date of the finding. Comments may be submitted to the FHWA's Web site via the link provided to the City of Colorado Springs waiver page noted above.

(Authority: 23 U.S.C. 313; Pub. L. 110-161, 23 CFR 635.410)

Issued on: October 8, 2009.
King Gee,
Associate Administrator for Infrastructure.

[FR Doc. E9-24851 Filed 10-14-09; 8:45 am]

BILLING CODE 4910-22-P